ENVIRONMENTAL PROTECTION AGENCY

[ER-FRL-6660-3]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167.

An explanation of the ratings assigned to draft environmental impact statements (EISs) was published in the Federal Register dated April 2, 2004 (69 FR 17403).

Draft EISs

ERP No. D-FAA-E51051-FL Rating EC2, Panama City-Bay County International Airport (PFN), Proposed Relocation to a New Site, NPDES Permit and U.S. Army COE Section 404 Permit, Bay County, FL.

Summary: EPA expressed concerns due to wetland and secondary impacts, and requested additional information on secondary development and impacts induced by the proposed airport relocation, wetland mitigation, and the sponsor's site selection process.

ERP No. D-FHW-H40183-00 Rating LO, Council Bluffs Interstate System Improvements Project, Transportation Improve from Missouri River on I-80 to East of the I-480 Interchange, (Tier 1), Pottawattamie County, IA and Douglas County, NB.

Summary: EPA has no objections to the proposed project. ERP No. D-FRC-G03023-TX Rating EC2, Cheniere Corpus Christi Liquefied Natural Gas (LNG) Project, To Provide Facilities for the Importation, Storage and Vaporization of Liquefied Natural Gas, Nueces and San Patricio Counties, TX.

Summary: EPA expressed environmental concerns and requested additional information regarding wetlands mitigation measures, the potential for invasive species introduction, and air quality impacts.

ERP No. D-NIH-G84000-TX Rating LO, Galveston National Laboratory for Biodefense and Emerging Infectious Diseases Research Facility at the University of Texas Medical Branch, Construction, Partial Funding, Grant, Galveston, TX.

Summary: EPA had no objection to the selection of the preferred alternative. However, EPA asked that the Final EIS include a discussion of general air quality conformity.

ERP No. D-STB-G53010-TX Rating EC2, Southwest Gulf Railroad Project, Construction and Operation Exemption, To Transport Limestone from Vulcan Construction Materials (VCM) Quarry to Del Rio Subdivision, Medina County, TX.

Summary: EPA expressed environmental concerns about the proposed project regarding the Spill Prevention, Containment and Countermeasure Plan, aquatic steam crossing mitigation measures, and air quality impacts.

Final EISs

ERP No. F-BIA-L02031-OR Wanapa Energy Center, Construction and Operation a New 1,200 Megawatt (MW) Natural Gas-Fired Electric Power Generating Facility, Confederated Tribes of the Umatilla Indian Reservation (CTUIR), in the City of Hermiston and the Port of Umatilla, OR.

Summary: No formal comment letter was sent.

ERP No. F-FHW-D40093-PA City of Lebanon Bridge Over Norfolk Southern Railroad Tracks Construction Project, 12th Street to Lincoln Avenue, Funding, Lebanon County, PA.

Summary: EPA has no objections to the preferred alternative.

ERP No. F-FHW-F40408-00 Trunk Highway 60 Reconstruction Project, Improvements from 1.8 miles south of the Minnesota-Iowa Border (120th Street) to I-90 north of the City of Worthington, Funding, U.S. Army COE Section 404 and NPDES Permits Issuance, Nobles County, MN and Osceola County, IA.

Summary: EPA has no objections to the preferred alternative.

ERP No. F-FRC-G03022-LA Sabine Pass Liquefied Natural Gas (LNG) and Pipeline Project, Construction and Operation LNG Import Terminal and Natural Gas Pipeline Facilities, Several Permits, Cameron Parish, LA.

Summary: EPA expressed environmental concerns and requested additional information regarding post-construction monitoring of wetland mitigation and sediment toxicity testing of dredged material. EPA will also continue coordination efforts with the U.S. Army Corps of Engineers as the Aquatic Resources Mitigation Plan is finalized and the Clean Water Act Section 404 permit application is reviewed.

ERP No. F-FTA-D54041-VA Dulles Corridor Rapid Transit Project, High-Quality and High-Capacity Transit Service in the Dulles Corridor, West Falls Church Metrorail Station in Fairfax County to the Vicinity of Route 772 in Loudoun County, VA.

Summary: EPA's comments have been adequately addressed in the Final EIS and has no objections to the preferred alternative.

ERP No. F-IBR-K39088-CA Sacramento River Settlement Contractors (SRSC), To Renew the Settlement Contractors Long-Term Contract Renewal for 145 Contractors, Central Valley Project (CVP), Sacramento River, Shasta, Tehama, Butte, Glenn, Colusa, Sutter, Yolo, Sacramento, Portion of Placer and Solano Counties, CA.

Summary: EPA expressed continuing concerns regarding direct, indirect, and cumulative impacts to water quality associated with the contract renewals. EPA requested additional information on water quality degradation in the area, water demand calculations, and methods of water conservation that will be implemented.

ERP No. F-USA-J11020-UT Activities Associated with Future Programs at U.S. Army Dugway Proving Ground, Implementation, Tooele and Jaub Counties, UT.

Summary: No formal comment letter was sent.

ERP No. FB-FTA-L40205-00 South Corridor Project, I-205/Portland Mall Light Rail (Phase I), Selected the Locally Preferred Alternative (LPA), Clackamas and Multnomah Counties, OR.

Summary: No formal comment letter was sent.

ERP No. FS-GSA-G80000-TX Del Rio Port of Entry (POE), Increased Security Measures Associated with Phase II Expansion, Supplement to the 1992 Del Rio Border Patrol Station, Del Rio, Val Verde County, TX.

Summary: EPA has no objections to the proposed project.

Dated: February 1, 2005.
Robert W. Hargrove,
Director, NEPA Compliance Division, Office of Federal Activities.

[FR Doc. 05-2178 Filed 2-3-05; 8:45 am]

BILLING CODE 6560-50-P